DEPARTMENT OF DEFENSE

Office of the Secretary

Privacy Act of 1974; System of Records

AGENCY: Office of the Secretary, DoD.

ACTION: Notice to amend a system of records.

SUMMARY: The Office of the Secretary is amending one system of records notice in its inventory of records systems subject to the Privacy Act of 1974, as amended (5 U.S.C. 552a).

DATES: The changes will be effective on June 14, 2004 unless comments are received that would result in a contrary determination.

ADDRESSES: Send comments to OSD Privacy Act Coordinator, Records Management Section, Washington Headquarters Services, 1155 Defense Pentagon, Washington, DC 20301-1155.

FOR FURTHER INFORMATION CONTACT: Ms. Juanita Irvin at (703) 601-4722, extension 110.

SUPPLEMENTARY INFORMATION: The Office of the Secretary of Defense notices for systems of records subject to the Privacy Act of 1974 (5 U.S.C. 552a), as amended, have been published in the Federal Register and are available from the address above.

The specific amendments to the records system being amended are set forth below followed by the notice, as amended, published in its entirety. The proposed amendments are not within the purview of subsection (r) of the Privacy Act of 1974 (5 U.S.C. 552a), as amended, which requires the submission of a new or altered system report.

Dated: May 7, 2004.
L.M. Bynum,
Alternate OSD Federal Register Liaison Officer, Department of Defense.

DSMC 06

System name:

Defense Systems Management College (DSMC) Mailing Lists (February 2, 1993, 58 FR 10227).

Changes:

System identifier:

Delete entry and replace with “DAU 06”.

System name:

Delete entry and replace with “Defense Acquisition University Mailing Lists”.

System location:

Replace second paragraph with “Hard copy back up files (letter and card requests) are located in DAU Press, Defense Acquisition University, Building 206, Fort Belvoir, VA 22060-5565.”

Categories of Individuals Covered by the System:

Within entry, replace “Defense Systems Management College” and “DSMC” with “DAU”.

Categories of records in the system:

Within entry, replace “DSMC” with “DAU”.

Authority for the maintenance of the system:

Delete entry and replace with “10 U.S.C. 136, Under Secretary of Defense for Personnel and Readiness and Department of Defense Directive 5160.57, Defense Acquisition University.”

Purpose(s):

Delete entry and replace with “Data is used by DAU to provide a mailing list for the distribution of Defense Acquisition, Technology, and Logistics ‘Acquisition Review Quarterly’, surveys, and graduate registers.”

* * * * *

Storage:

Delete entry and replace with “Primary file is computer database. Hard copy back-up files are paper records in locked file cabinets.”

* * * * *

Retention and disposal:

Delete entry and replace with “The information (database entries) that constitute the Defense Acquisition University mailing lists are updated on a daily basis as new subscriptions and cancellations come in and as publications are returned for insufficient or undeliverable addresses. The DAU Press collects these changes and forwards them to Actionmail Company as least twice monthly. To further ensure the subscription databases are current the DAU Press, in conjunction with Actionmail, purges each mailing list as new subscriptions and cancellations are received. Destroy or correct individual records when revised or cancelled.”

* * * * *

DAU 06

System name:

Defense Acquisition University Mailing Lists.

System location:

Primary location: Actionmail Company, 4825 Beech Place, Temple Hills, MD 20748-2030.

Hard copy back up files (letter and card requests) are located in DAU Press, Defense Acquisition University, Building 206, Fort Belvoir, VA 22060-5565.

Categories of individuals covered by the system:

Former Defense Acquisition University (DAU) students; members of the DAU Policy Guidance Council and Board of Visitors; program managers associated with defense and other government acquisition programs; key acquisition managers throughout the U.S. government; former staff and faculty members, and other individuals who request they be included in the system. Except for program management course graduates, everyone in the system is there by request.

Categories of records in the system:

File contains name, class at DAU, job code, mailing address, rank or grade, position title and affiliation.

Authority for maintenance of the system:

10 U.S.C. 136, Under Secretary of Defense for Personnel and Readiness and DoD Directive 5160.57, Defense Acquisition University.

Purpose(s)

Data is used by DAU to provide a mailing list for the distribution of Defense Acquisition, Technology, and Logistics “Acquisition Review Quarterly”, surveys, and graduate registers.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Actionmail Company for the purpose of operating and maintaining the DAU Mailing List system.

The DoD “Blanket Routine Uses” set forth at the beginning of OSD's compilation of systems of records notices applies to this system.

Policies and practices for storing, retrieving, accessing, retaining, and disposing of records in the system:

Storage:

Primary file is computer database. Hard copy back-up files are paper records in locked file cabinets.

Retrievability:

Files are retrievable by name, class, data base code, and zip code.

Safeguards:

Primary location is a controlled access area. Back-up file storage is in a building, which is locked during non-business hours and is located on a military installation.

Retention and disposal:

The information (database entries) that constitute the Defense Acquisition University mailing lists are updated on a daily basis as new subscriptions and cancellations come in and as publications are returned for insufficient or undeliverable addresses. The DAU collects these changes and forwards them to Actionmail Company as least twice monthly. To further ensure the subscription databases are current the DAU Press, in conjunction with Actionmail, purges each mailing list as new subscriptions and cancellations are received. Destroy or correct individual records when revised or canceled.

System manager(s) and address:

Director, DAU Press, Defense Acquisition University, Building 206, Fort Belvoir, VA 22060-5565.

Notification procedure:

Individuals seeking to determine whether information about themselves is contained in this system should address written inquiries to the Director, DAU Press, Defense Acquisition University, Building 206, Fort Belvoir, VA 22060-5565.

Record access procedures:

Individuals seeking to access information about themselves contained in this system should address written inquiries to the Director, DAU Press, Defense Acquisition University, Building 206, Fort Belvoir, VA 22060-5565.

Written requests for information should contain the full name of the individual and current address.

For personal visits, the individual must provide acceptable identification, such as a military or other ID card or driver's license.

Contesting record procedures:

The OSD rules for accessing records, for contesting contents and appealing initial agency determinations are published in OSD Administrative Instruction 81; 32 CFR part 311; or may be obtained from the system manager.

Record source categories:

Information is provided by the individual, employer, staff and faculty of DAU, each DoD Component, and the Office of Personnel Management (including their automated personnel systems).

Exemptions claimed for the system:

None.

[FR Doc. 04-10828 Filed 5-12-04; 8:45 am]

BILLING CODE 5001-06-M